NUCLEAR REGULATORY COMMISSION

10 CFR Chapter I

Unified Agenda of Federal Regulatory and Deregulatory Actions

AGENCY: Nuclear Regulatory Commission.

ACTION: Semiannual regulatory agenda.

SUMMARY: The U.S. Nuclear Regulatory Commission (NRC) is publishing its semiannual regulatory agenda in accordance with Public Law 96-354, “The Regulatory Flexibility Act,” and Executive Order 12866, “Regulatory Planning and Review.” The agenda is a compilation of all rules on which the NRC has recently completed action or has proposed or is considering action. This issuance updates any action occurring on rules since publication of the last semiannual agenda on December 20, 2010 (75 FR 9934).

ADDRESSES: Comments on any rule in the agenda may be sent to the Secretary of the Commission, U.S. Nuclear Regulatory Commission, Washington, DC 20555-0001, Attention: Rulemakings and Adjudications Staff. Comments may also be hand delivered to the One White Flint North Building, 11555 Rockville Pike, Rockville, Maryland 20852-2738, between 7:30 a.m. and 4:15 p.m., Federal workdays. Comments received on rules for which the comment period has closed will be considered if it is practical to do so, but assurance of consideration cannot be given except as to comments received on or before the closure dates specified in the agenda. Public comments on NRC's published rulemaking actions are available on the Federal rulemaking Web site at http://www.regulations.gov.

The agenda and any comments received on any rule listed in the agenda are available for public inspection and copying, for a fee, at the NRC's Public Document Room, One White Flint North, 11555 Rockville Pike, Room O1-F21, Rockville, Maryland 20852-2738.

The complete Unified Agenda will be available online at http://www.reginfo.gov, in a format that offers users a greatly enhanced ability to obtain information from the Agenda database.

FOR FURTHER INFORMATION CONTACT: For further information concerning NRC rulemaking procedures or the status of any rule listed in this agenda, contact: Cindy Bladey, Rules, Announcements and Directives Branch, Division of Administrative Services, Office of Administration, U.S. Nuclear Regulatory Commission, Washington, DC 20555-0001, telephone: 301-492-3667; E-mail: Cindy Bladey@nrc.gov. Persons outside the Washington, DC, metropolitan area may call, toll-free: 1-800-368-5642. For further information on the substantive content of any rule listed in the agenda, contact the individual listed under the heading “Agency Contact” for that rule.

SUPPLEMENTARY INFORMATION: The information contained in this semiannual publication is updated to reflect any action that has occurred on rules since publication of the last NRC semiannual agenda on December 20, 2010 (75 FR 9934). Within each group, the rules are ordered according to the Regulation Identifier Number (RIN).

The information in this agenda has been updated through February 25, 2011. The date for the next scheduled action under the heading “Timetable” is the date the rule is scheduled to be published in the Federal Register. The date is considered tentative and is not binding on the Commission or its staff. The agenda is intended to provide the public early notice and opportunity to participate in the NRC rulemaking process. However, the NRC may consider or act on any rulemaking even though it is not included in the agenda.

The NRC agenda lists all open rulemaking actions. Three rules affect small entities.

Dated at Rockville, Maryland, this 25th day of February, 2011.
For the Nuclear Regulatory Commission.
Cindy Bladey,
Chief, Rules, Announcements and Directives Branch, Division of Administrative Services, Office of Administration.

Nuclear Regulatory Commission—Final Rule Stage
Sequence No. | Title | Regulation Identifier No.
449 | Distribution of Source Material To Exempt Persons and General Licensees and Revision of General License and Exemptions [NRC-2009-0084] | 3150-AH15

Nuclear Regulatory Commission—Long-Term Actions
Sequence No. | Title | Regulation Identifier No.
450 | Controlling the Disposition of Solid Materials [NRC-1999-0002] | 3150-AH18

NUCLEAR REGULATORY COMMISSION (NRC)

Final Rule Stage

449. Distribution of Source Material to Exempt Persons and General Licensees and Revision of General License and Exemptions [NRC-2009-0084]

Legal Authority: 42 U.S.C. 2201; 42 U.S.C. 5841

Abstract: The proposed rule would amend the Commission's regulations to improve the control over the distribution of source material to exempt persons and to general licensees in order to make part 40 more risk-informed. The proposed rule also would govern the licensing of source material by adding specific requirements for licensing of and reporting by distributors of products and materials used by exempt persons and general licensees. Source material is used under general license and under various exemptions from licensing requirements in part 40 for which there is no regulatory mechanism for the Commission to obtain information to fully assess the resultant risks to public health and safety. Although estimates of resultant doses have been made, there is a need for ongoing information on the quantities and types of radioactive material distributed for exempt use and use under general license. Obtaining information on the distribution of source material is particularly difficult because many of the distributors of source material to exempt persons and generally licensed persons are not currently required to hold a license from the Commission. Distributors are often unknown to the Commission. No controls are in place to ensure that products and materials distributed are maintained within the applicable constraints of the exemptions. In addition, the amounts of source material allowed under the general license in section 40.22 could result in exposures above 1 mSv/year (100 mrem/year) to workers at facilities that are not required to meet the requirements of parts 19 and 20. Without knowledge of the identity and location of the general licensees, it would be difficult to enforce restrictions on the general licensees. This rule also would address Petition for Rulemaking, PRM-40-27 submitted by the State of Colorado and Organization of Agreement States.

Timetable:

Action | Date | FR Cite
NPRM | 07/26/10 | 75 FR 43425
NPRM Comment Period End | 11/23/10
Final Rule | 12/00/11

Regulatory Flexibility Analysis Required: Yes.

Agency Contact: Gary C. Comfort, Jr., Nuclear Regulatory Commission, Office of Federal and State Materials and Environmental Management Programs, Washington, DC 20555-0001, Phone: 301 415-8106, E-mail: gary.comfort@nrc.gov.

RIN: 3150-AH15

NUCLEAR REGULATORY COMMISSION (NRC)

Long-Term Actions

450. Controlling the Disposition of Solid Materials [NRC-1999-0002]

Legal Authority: 42 U.S.C. 2201; 42 U.S.C. 5841

Abstract: The staff provided a draft proposed rule package on Controlling the Disposition of Solid Materials to the Commission on March 31, 2005, which the Commission disapproved. The Commission's decision was based on the fact that the Agency is currently faced with several high priority and complex tasks, that the current approach to review specific cases on an individual basis is fully protective of public health and safety, and that the immediate need for this rule has changed due to the shift in timing for reactor decommissioning. The Commission has deferred action on this rulemaking.

Timetable:

Action | Date | FR Cite
NPRM | To Be Determined

Regulatory Flexibility Analysis Required: Yes.

Agency Contact: Kimyata Morgan Butler, Nuclear Regulatory Commission, Office of Federal and State Materials and Environmental Management Programs, Washington, DC 20555-0001, Phone: 301 415-0733, E-mail: kimyata.morganbutler@nrc.gov.

RIN: 3150-AH18

[FR Doc. 2011-15504 Filed 7-6-11; 8:45 am]

BILLING CODE 7590-01-P